DEPARTMENT OF THE INTERIOR

National Park Service

Flight 93 National Memorial Advisory Commission

AGENCY: National Park Service, Interior.

ACTION: Notice of October 22, 2004 Meeting.

SUMMARY: This notice sets forth the date of the October 22, 2004 meeting of the Flight 93 Advisory Commission.

DATES: The public meeting will be held on October 22, 2004 from 10 a.m. to 4 p.m.

Location: The meeting will be held at the Flight 93 National Memorial Office, 109 West Main Street, Newberry Building, Somerset, Pennsylvania, 15501.

Agenda

The October 22, 2004 meeting will consist of:

(1) Opening of Meeting and Pledge of Allegiance

(2) Review and Approval of Minutes from July 30, 2004

(3) Reports from the Flight 93 Memorial Task Force Committees and the National Park Service

Administration Committee

Lands/Resource Assessment Committee

Memorial Ideas Planning Committee

Design Solicitation Committee

Fundraising Committee

Government Relations Committee

Public Relations Committee

Archives Committee

Temporary Memorial Management Committee

Family Memorial Committee

Families of Flight 93, Inc.

National Park Service

Comments from the public will be received after each committee briefing.

(4) Old Business

(5) New Business

(6) Closing Remarks

FOR FURTHER INFORMATION CONTACT: Joanne M. Hanley, Superintendent, Flight 93 National Memorial, 109 West Main Street, Somerset, PA 15501.

SUPPLEMENTARY INFORMATION: The meeting will be open to the public. Any member of the public may file with the Commission a written statement concerning agenda items. The statement should be addressed to the Flight 93 Advisory Commission, 109 West Main Street, Somerset, PA 15501.

Joanne M. Hanley,
Superintendent, Flight 93 National Memorial.

[FR Doc. 04-22566 Filed 10-6-04; 8:45 am]

BILLING CODE 4310-52-M